DEPARTMENT OF ENERGY

DOE's Preferred Alternative for Certain Tanks Evaluated in the Final Tank Closure and Waste Management Environmental Impact Statement for the Hanford Site, Richland, Washington

AGENCY: U.S. Department of Energy (DOE).

ACTION: Notice of DOE's preferred alternative.

SUMMARY: The U.S. Department of Energy (DOE) is announcing its preferred alternative for wastes contained in underground radioactive waste storage tanks evaluated in the Final Tank Closure and Waste Management Environmental Impact Statement for the Hanford Site, Richland, Washington (Final TC & WM EIS, DOE/EIS-0391, December 2012). With regard to those wastes that, in the future, may be properly and legally classified as mixed transuranic waste (mixed TRU waste) ¹ DOE's preferred alternative is to retrieve, treat, package, and characterize and certify the wastes for disposal at the Waste Isolation Pilot Plant (WIPP) in Carlsbad, New Mexico, a geologic repository for the disposal of mixed TRU waste generated by atomic energy defense activities. This Notice supplements DOE's expression of its preferred alternatives identified in the Final TC & WM EIS in Section S.7 of the Summary, and in Chapter 2, Section 2.12, of Volume 1. (Also see SUPPLEMENTARY INFORMATION.)

¹ Transuranic (TRU) waste is waste that contains alpha particle-emitting radionuclides with atomic numbers greater than that of uranium (92) and half-lives greater than 20 years in concentrations greater than 100 nanocuries per gram of waste. “Mixed waste” is radioactive waste containing hazardous constituents regulated under the Resource Conservation and Recovery Act.

ADDRESSES: Copies of the Final TC & WM EIS (paper or electronic) may be obtained by contacting: Ms. Mary Beth Burandt, NEPA Document Manager, Office of River Protection, U.S. Department of Energy, P.O. Box 1178, Richland, Washington 99352, Email: TC&WMEIS@saic.com.

The Final TC & WM EIS and its DOE Notice of Availability are available on the DOE NEPA Web site at http://energy.gov/nepa. Additional information on the Final TC & WM EIS is also available through the Hanford Web site at http://www.hanford.gov/.

FOR FURTHER INFORMATION CONTACT: For further information on the Final TC & WM EIS, contact Ms. Burandt as listed in ADDRESSES or by telephone at 1-888-829-6347. For general information regarding the DOE NEPA process, contact: Ms. Carol M. Borgstrom, Director, Office of NEPA Policy and Compliance, GC-54, U.S. Department of Energy, 1000 Independence Avenue SW, Washington, DC 20585, Telephone: 202-586-4600, or leave a message at 1-800-472-2756, Email: askNEPA@hq.doe.gov.

For further information about DOE's preferred alternative for the tanks discussed herein, contact: Mr. Todd Shrader, U.S. Department of Energy, 1000 Independence Avenue SW., Washington, DC 20585, Telephone: 202-586-3784.

SUPPLEMENTARY INFORMATION:

Background

The Hanford Site, located in southeastern Washington State along the Columbia River, is approximately 586 square miles in size. Hanford's mission from the early 1940s to approximately 1989 included defense-related nuclear research, development, and weapons production activities. These activities created a wide variety of chemical and radioactive wastes. Hanford's mission now is focused on the cleanup of those wastes and ultimate closure of the Site.

To support its decision making process, DOE prepared the TC & WM EIS pursuant to the National Environmental Policy Act (NEPA) and in accordance with Council on Environmental Quality and DOE NEPA implementing regulations (40 CFR Parts 1500-1508; 10 CFR Part 1021); the U.S. Environmental Protection Agency and the Washington State Department of Ecology are cooperating agencies on this EIS. The TC & WM EIS addresses proposed actions in three major areas: The retrieval and treatment of waste from 177 underground radioactive waste storage tanks, including 149 single-shell tanks (SSTs), and closure of the SSTs; decommissioning the Fast Flux Test Facility and its auxiliary facilities; and continued and expanded management of low-level radioactive waste and mixed low-level radioactive waste.

TC & WM EIS Evaluation of Candidate Tank Waste for Classification as Mixed TRU Waste

This notice pertains only to the retrieval, treatment, packaging, and characterization and certification, for disposal at WIPP, of wastes contained in the 20 tanks evaluated in the TC & WM EIS as being candidates for classification as mixed TRU waste. The total volume of waste in these tanks is approximately 3.1 million gallons, all of which the EIS evaluations assumed to be mixed TRU waste for the purposes of analysis. Currently, DOE has not classified any of the waste as mixed TRU waste. The 20 tanks were included in five of the tank closure alternatives evaluated in the TC & WM EIS.² Information about these tanks and further details of the evaluation can be found in the Summary (Page S-57) and in Appendix E of the TC & WM EIS.

² Tank Closure Alternatives 3A, 3B, 3C, 4, and 5.

Preferred Alternatives

DOE's preferred alternatives for all three major areas listed above are described in the Summary, Section S.7, and in Chapter 2, Section 2.12, of Volume 1 of the Final TC & WM EIS. Regarding wastes contained in the 20 tanks evaluated as candidates for classification as mixed TRU waste, the EIS stated that: “Retrieval of tank waste identified as mixed TRU waste would commence only after DOE had issued a Federal Register notice of its preferred alternative and a ROD”.³

³ “ROD” refers to a Record of Decision.

To make progress in the overall tank waste retrieval process, and in view of recent information about potential tank leaks, DOE now prefers to retrieve, treat, package, and characterize and certify the wastes that are properly and legally classified as mixed TRU waste for disposal at WIPP. Initiating retrieval of tank waste classified as mixed TRU waste would be contingent on DOE's obtaining the applicable and necessary permits, ensuring that the WIPP Waste Acceptance Criteria and all other applicable regulatory requirements have been met, and making a documented determination that the waste is properly classified as mixed TRU waste. Further, retrieval of waste would not commence until a ROD had been issued. DOE may issue such a ROD regarding the candidate TRU wastes no sooner than 30 days from the date of publication of this notice in the Federal Register.

Issued in Washington, DC, on March 4, 2013.
David Huizenga,
Senior Advisor for Environmental Management.

[FR Doc. 2013-05509 Filed 3-8-13; 8:45 am]

BILLING CODE 6450-01-P